DEPARTMENT OF THE TREASURY

Office of Thrift Supervision

12 CFR Part 563e

Community Reinvestment

CFR Correction

In Title 12 of the Code of Federal Regulations, Parts 500 to 599, revised as of January 1, 2011, on page 278, in § 563e.12, the heading of paragraph (u) and paragraph (u)(1) are corrected to read as follows:

§ 563e.12 Definitions.

* * * * *

(u) Small savings association—(1) Definition. Small savings association means a savings association that, as of December 31 of either of the prior two calendar years, had assets of less than $1.122 billion. Intermediate small savings association means a small savings association with assets of at least $280 million as of December 31 of both of the prior two calendar years and less than $1.122 billion as of December 31 of either of the prior two calendar years.

* * * * *

[FR Doc. 2011-8795 Filed 4-12-11; 8:45 am]

BILLING CODE 1505-01-D